ENVIRONMENTAL PROTECTION AGENCY

40 CFR Parts 239 and 258

[EPA-R10-RCRA-2013-0105; FRL-9796-7]

Adequacy of Oregon's Municipal Solid Waste Landfill Permit Program

AGENCY: Environmental Protection Agency (EPA).

ACTION: Proposed rule.

SUMMARY: EPA Region 10 proposes to approve a modification to the State of Oregon's approved Municipal Solid Waste Landfill Program. On March 22, 2004, EPA issued final regulations allowing research, development, and demonstration (RD&D) permits to be issued to certain municipal solid waste landfills by approved states. On June 14, 2012, Oregon submitted an application to EPA Region 10 seeking Federal approval of its RD&D requirements.

DATES: Comments on this proposed action must be received in writing on or before May 3, 2013.

ADDRESSES: Submit your comments, identified by Docket ID No. EPA-R10-RCRA-2013-0105, by one of the following methods:

• www.regulations.gov: Follow the on-line instructions for submitting comments.

• Email: calabro.domenic@epa.gov.

• Fax: (206) 553-6640, to the attention of Domenic Calabro.

• Mail: Send written comments to Domenic Calabro, Office of Air, Waste, and Toxics, U.S. EPA, Region 10, 1200 Sixth Avenue, Suite 900, Mailstop: AWT-122, Seattle, WA 98101.

• Hand Delivery or Courier: Deliver your comments to: Domenic Calabro, Office of Air, Waste, and Toxics, U.S. EPA, Region 10, 1200 Sixth Avenue, Suite 900, Mailstop: AWT-122, Seattle, WA 98101. Such deliveries are only accepted during the Office's normal hours of operation.

For detailed instructions on how to submit comments, please see the direct final rule which is located in the Rules section of this Federal Register.

FOR FURTHER INFORMATION CONTACT: Domenic Calabro at (206) 553-6640 or by email at calabro.domenic@epa.gov.

SUPPLEMENTARY INFORMATION: In the Rules section of this Federal Register, the EPA is approving modifications to Oregon's Municipal Solid Waste Landfill permit program to allow for Research, Development, and Demonstration permits through a direct final rule without prior proposal, because the EPA views this as a noncontroversial action and anticipates no adverse comments to this action. Unless we receive written adverse comments which oppose this approval during the comment period, the direct final rule will become effective on the date it establishes, and we will not take further action on this proposal. If the EPA receives written adverse comments, the direct final rule will be withdrawn and all public comments received will be addressed in a subsequent final rule. The EPA will not institute a second comment period on this action. Any parties interested in commenting on this action should do so at this time. For additional information, see the direct final rule which is located in the Rules section of this Federal Register.

Authority: This action is issued under the authority of sections 2002, 4005 and 4010(c) of the Solid Waste Disposal Act, as amended, 42 U.S.C. 6912, 6945 and 6949(a).

Dated: March 8, 2013.
Dennis J. McLerran,
Regional Administrator, EPA Region 10.

[FR Doc. 2013-07769 Filed 4-2-13; 8:45 am]

BILLING CODE 6560-50-P